DEPARTMENT OF TRANSPORTATION

National Highway Traffic Safety Administration

Denial of Motor Vehicle Defect Petition, DP01-004

AGENCY: National Highway Traffic Safety Administration (NHTSA), Department of Transportation.

ACTION: Denial of petition for a defect investigation.

SUMMARY: This notice sets forth the reasons for the denial of a petition submitted to NHTSA under 49 U.S.C. § 30162, requesting that the agency commence a proceeding to determine the existence of a defect related to motor vehicle safety. The petition is hereinafter identified as DP01-004.

FOR FURTHER INFORMATION CONTACT: Mr. Robert Squire, Office of Defects Investigation (ODI), NHTSA, 400 Seventh Street, SW., Washington, DC, 20590. Telephone 202-493-0212.

SUPPLEMENTARY INFORMATION: Mr. Douglas Fabish submitted a petition to NHTSA by letter dated July 23, 2001, requesting that an investigation be initiated to determine whether to issue an order concerning safety defects in model year 1997 WIA-series Volvo Class 8 truck tractors (subject trucks). The petition alleges that the frame rail cross members are ineffective in maintaining alignment of the two longitudinal frame rails and that the subsequent misalignment creates vehicle control problems, excessive vibration, and increased wear of axle components. The petitioner alleges that the frame rail cross members flex as the vehicle is maneuvered through a turn. The flexing allegedly creates a misalignment of the frame that in turn creates a “temporary breech (sic)” between the frame and axle positioning components. The petitioner asserts that as a result of this breach, or gap, between the frame and axle, inordinate stress is placed on the axle components leading to premature wear of the components and excessive vehicle vibration.

In support of the petition, the petitioner made available to ODI a copy of an engineering analysis he commissioned for his truck. Although the report offered some explanation for the problems the petitioner experienced with his vehicle, ODI has included that the analysis does not support the petitioner's allegations. Specifically, the petitioner's engineering analysis concluded that the frame rails were misaligned and “over-stressed.” The analysis failed to explain the methodology used to reach this conclusion or what effect such conditions would have on the vehicle.

A review of complaints filed with NHTSA, regarding all Volvo trucks, revealed none that allege characteristics similar to those expressed by the petitioner. NHTSA has received eight complaints regarding the subject trucks; only one made reference to the frame, and this complaint was related to the vehicle's suspension. Review of additional documentation provided by the petitioner, including his engineering analysis, failed to conclusively identify a cause for the problems exhibited by his vehicle. None of the complaints reviewed, nor personal contacts established by ODI, corroborated the petitioner's conclusion regarding ineffective frame rail cross members.

ODI has no information indicating that misalignment of the truck's frame rails as described by the petitioner has contributed to a collision or injury.

It is unlikely that NHTSA would issue an order for the notification and remedy of alleged frame rail misalignment as described by the petitioner at the conclusion of the investigation requested in the petition. Therefore, in view of the need to allocate and prioritize NHTSA's limited resources to best accomplish the agency's safety mission, the petition is denied.

Authority: 49 U.S.C. 30162(d); delegations of authority at CFR 1.50 and 501.8.

Issued on: April 4, 2002.
Kenneth N. Weinstein,
Associate Administrator for Safety Assurance.

[FR Doc. 02-9136 Filed 4-15-02; 8:45 am]

BILLING CODE 4910-59-P